NUCLEAR REGULATORY COMMISSION

Advisory Committee on Reactor Safeguards; Meeting of the Subcommittee on Plant License Renewal; Notice of Meeting

The ACRS Subcommittee on Plant License Renewal will hold a meeting on October 30, 2002, Room T-2B3, 11545 Rockville Pike, Rockville, Maryland.

The entire meeting will be open to public attendance.

The agenda for the subject meeting shall be as follows: Wednesday, October 30, 2002—8:30 a.m. until the conclusion of business.

The Subcommittee will meet with representatives of the NRC staff and the Exelon Generation Company, LLC, to review the license renewal application for Peach Bottom Atomic Power Station Units 2 and 3, and the associated safety evaluation report with open items. The purpose of this meeting is to gather information, analyze relevant issues and facts, and formulate proposed positions and actions, as appropriate, for deliberation by the full Committee.

Oral statements may be presented by members of the public with the concurrence of the Subcommittee Chairman; written statements will be accepted and made available to the Committee. Persons desiring to make oral statements should notify one of the individuals named below five days prior to the meeting, if possible, so that appropriate arrangements can be made. Electronic recordings will be permitted only during those portions of the meeting that are open to the public.

During the initial portion of the meeting, the Subcommittee, along with any of its consultants who may be present, may exchange preliminary views regarding matters to be considered during the balance of the meeting.

The Subcommittee will then hear presentations by and hold discussions with representatives of the NRC staff, Exelon Generation Company, LLC, and other interested persons regarding this review.

Further information regarding topics to be discussed, whether the meeting has been canceled or rescheduled, and the Chairman's ruling on requests for the opportunity to present oral statements and the time allotted therefor can be obtained by contacting the Designated Federal Official, Mr. Timothy Kobetz (telephone 301/415-8716) or Mr. Ramin Assa, Cognizant Staff Engineer (telephone 301-415-6885) between 7:30 a.m. and 4:30 p.m. (EDT). Persons planning to attend this meeting are urged to contact one of the above named individuals at least two working days prior to the meeting to be advised of any potential changes in the proposed agenda.

Dated: October 16, 2002.
Sher Bahadur,
Associate Director for Technical Support ACRS/ACNW.

[FR Doc. 02-26828 Filed 10-21-02; 8:45 am]

BILLING CODE 7590-01-P